DEPARTMENT OF TRANSPORTATION

Federal Aviation Administration

[Summary Notice No. 2020-71]

Petition for Exemption; Summary of Petition Received; Daniel Bauer

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before November 2, 2020.

ADDRESSES: Send comments identified by docket number FAA-2020-0802 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Linda Lane (202) 267-7280, Office of Rulemaking, Federal Aviation Administration, 800 Independence Avenue SW, Washington, DC 20591.

This notice is published pursuant to 14 CFR 11.85.

Issued in Washington, DC, on October 2, 2020.
Brandon Roberts,
Executive Director, Office of Rulemaking.

Petition for Exemption

Docket No.: FAA-2020-0802.

Petitioner: Daniel Bauer.

Section(s) of 14 CFR Affected: § 61.39(a)(1)(i).

Description of Relief Sought: The petitioner is seeking a three month extension of the relief provided by the COVID-19 Special Federal Aviation Regulations (SFAR) as it relates to the Pilot Knowledge Test qualification requirement. This grant of exemption would permit the petitioner to use his knowledge test results for up to six calendar months after the date of expiration to otherwise qualify for a practical test as specified in § 61.39. The current SFAR only provides relief for up to three calendar months. The petitioner contends there are continuing difficulties obtaining aircraft maintenance, instruction and examinations due to COVID-19 related health and social distancing concerns.

[FR Doc. 2020-22515 Filed 10-9-20; 8:45 am]

BILLING CODE 4910-13-P